DEPARTMENT OF COMMERCE

National Oceanic and Atmospheric Administration

RIN 0648-XE845

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scallop Committee to consider actions affecting New England fisheries in the exclusive economic zone (EEZ). Recommendations from this group will be brought to the full Council for formal consideration and action, if appropriate.

DATES: This meeting will be held on Wednesday, September 14, 2016 at 9:30 a.m.

ADDRESSES: The meeting will be held at the Fairfield Inn & Suites, 185 MacArthur Drive, New Bedford, MA 02740; phone: (774) 634-2000; fax: (774) 634-2001.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Committee will review preliminary 2016 scallop survey results and discuss initial recommendations from the Scallop Plan Development Team (PDT) for FY 2017 and FY 2018 (default) fishery specifications (Framework 28). They plan to review and provide input on Framework 28 management measures; which include: (1) Restricting the possession of shell stock inshore of the days-at-sea demarcation line north of 42°20′ N.; (2) modifying the process for distributing scallop fishery projected landing (ACL flowchart); (3) modifying the Closed Area I AA boundary consistent with potential changes to habitat and groundfish mortality closures. They will also review Advisory Panel recommendations from previous day. Other business will be discussed as necessary. The Committee will continue in a closed door session to review applications to the Advisory Panel.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: August 24, 2016.
Jeffrey N. Lonergan,
Acting Deputy Director, Office of Sustainable Fisheries, National Marine Fisheries Service.

[FR Doc. 2016-20689 Filed 8-26-16; 8:45 am]

BILLING CODE 3510-22-P